DEPARTMENT OF COMMERCE

National Oceanic and Atmospheric Administration

[I.D. 111303A ]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC) from December 9 through 11, 2003.

DATES: The meetings are scheduled as follows:

December 9, 2003, 8:30 a.m. - 4:30 p.m.

December 10, 2003, 9.00 a.m. - 4:30 p.m.

December 11, 2003, 10:45 a.m. - 4:30 p.m.

ADDRESSES: The meetings will be held at Holiday Inn Martinique on Broadway, 49 West 32nd Street, New York, New York. Requests for special accommodations may be directed to MAFAC, Office of Constituent Services, NMFS, 1315 East-West Highway, Silver Spring, MD 20910.

FOR FURTHER INFORMATION CONTACT: Laurel Bryant, Designated Federal Official; telephone: (301) 713-2379 ext. 171.

SUPPLEMENTARY INFORMATION: As required by section 10(a) (2) of the Federal Advisory Committee Act, 5 U.S.C. App. (1982), notice is hereby given of meetings of MAFAC. MAFAC was established by the Secretary of Commerce (Secretary)on February 17, 1972, to advise the Secretary on all living marine resource matters that are the responsibility of the Department of Commerce. This Committee ensures that the living marine resource policies and programs of the Nation are adequate to meet the needs of commercial and recreational fisheries and of environmental, state, consumer, academic, tribal, and other national interests.

Matters to Be Considered

December 9, 20003

Review Ocean Commission status, summarize and discuss Constituent sessions 2003; and review National Standards 1 Guidelines and the Implementation of the Endangered Species Act and Essential Fish Habitat.

December 10, 2003

Report and discuss NOAA Fisheries' Bycatch Implementation Plan.

December 11, 2003

Review Budget Planning, wrap up reports and discuss schedule for next meeting and charter renewal.

December 12, 2003

Committee will make final reports to NOAA Fisheries and adjourn.

Special Accommodations

These meetings are physically accessible to people with disabilities. Requests for sign language interpretation or other auxiliary aids should be directed to MAFAC (see ADDRESSES).

Dated: November 14, 2003.
John Oliver,
Deputy Assistant Administrator for Operations,National Marine Fisheries Service

[FR Doc. 03-29035 Filed 11-19-03; 8:45 am]

BILLING CODE 3510-22-S